DEPARTMENT OF COMMERCE

National Oceanic and Atmospheric Administration

50 CFR Part 679

[Docket No. 000211040-0040-01; I.D. 082900D]

Fisheries of the Exclusive Economic Zone Off Alaska; Pacific cod by Catcher Vessels using Trawl Gear in the Bering Sea and Aleutian Islands

AGENCY: National Marine Fisheries Service (NMFS), National Oceanic and Atmospheric Administration (NOAA), Commerce.

ACTION: Rescission of a closure.

SUMMARY: NMFS is opening directed fishing for Pacific cod by catcher vessels using trawl gear in portions of the Bering Sea and Aleutian Islands management area (BSAI) in which such fishing is authorized. This action is necessary to fully utilize the portion of the 2000 total allowable catch (TAC) of Pacific cod allocated to these vessels using trawl gear in this area.

DATES: Effective 1200 hours, Alaska local time (A.l.t.), September 1, 2000.

FOR FURTHER INFORMATION CONTACT: Nick Hindman, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

The portion of the TAC of Pacific cod allocated to catcher vessels using trawl gear in the BSAI was established by the Final 2000 Harvest Specifications of Groundfish for the BSAI (65 FR 8282, February 18, 2000) as 41,953 metric tons (mt). See § 679.20(c)(3)(iii) and § 679.20(a)(7)(i)(B).

The fishery for Pacific cod by catcher vessels using trawl gear in the BSAI was closed to directed fishing under § 679.20(d)(1)(iii) on April 24, 2000, (65 FR 24655, April 27, 2000), in order to reserve amounts anticipated to be needed for incidental catch in other fisheries. In that action, the Regional Administrator, Alaska Region, NMFS (Regional Administrator) also established a directed fishing allowance of 37,953 mt, and set aside the remaining 4,000 mt as bycatch to support other anticipated groundfish fisheries.

NMFS has determined that as of August 12, 2000, 1,325 mt remain in the portion of the TAC of Pacific cod allocated to catcher vessels using trawl gear in the BSAI and of that amount, 200 mt will be necessary as bycatch to support other anticipated groundfish fisheries through the end of 2000. Therefore, the Regional Administrator is establishing a revised directed fishing allowance of 41,753, and is setting aside the remaining 200 mt as bycatch to support other anticipated groundfish fisheries. NMFS has determined that 1,125 mt remain in the directed fishing allowance. Therefore, pursuant to §679.25(a)(1)(i), NMFS is rescinding the previous closure and is opening directed fishing for Pacific cod by catcher vessels using trawl gear in the portion of the BSAI in which such directed fishing is authorized by law. All fishery closures specified in regulations implementing the FMP remain in full force. In addition, all groundfish trawl fishing within Steller sea lion critical habitat in the exclusive economic zone west of 144° W. long. remains prohibited (65 FR 49766, August 15, 2000).

Classification

This action responds to the best available information recently obtained from the fishery. It must be implemented immediately in order to allow full utilization of the Pacific cod TAC. Providing prior notice and opportunity for public comment for this action is impracticable and contrary to the public interest. Further delay would only disrupt the FMP objective of providing the Pacific cod TAC for harvest. NMFS finds for good cause that the implementation of this action cannot be delayed for 30 days. Accordingly, under 5 U.S.C. 553(d), a delay in the effective date is hereby waived.

This action is authorized by § 679.25 and is exempt from review under Executive Order 12866.

Authority: 16 U.S.C. 1801 et seq.

Dated: September 1, 2000.
Richard W. Surdi,
Acting Director, Office of Sustainable Fisheries, National Marine Fisheries Service.

[FR Doc. 00-22961 Filed 9-1-00; 4:34 pm]

BILLING CODE: 3510-22 -S